DEPARTMENT OF COMMERCE

National Oceanic and Atmospheric Administration

[I.D. 083104C]

Endangered and Threatened Species; Permit for Take of Anadromous Fish

AGENCY: National Marine Fisheries Service (NMFS), National Oceanic and Atmospheric Administration (NOAA), Commerce.

ACTION: Issuance of permit.

SUMMARY: Notice is hereby given that Michael Clarke, City of San Luis Obispo, California, has been issued a permit to take the South Central California Coast Evolutionarily Significant Unit (ESU) of steelhead trout (Oncorhynchus mykiss) within the San Luis Obispo Creek watershed for the purpose of scientific research.

ADDRESSES: The permit and related documents are available for review upon written request or by appointment in the following office: NOAA Fisheries, Southwest Region, Protected Resources Division, 501 W. Ocean Blvd., Suite 4200, Long Beach, CA 90802; phone (562) 980-4045; fax (562) 980-4027.

FOR FURTHER INFORMATION CONTACT: Anthony Spina at phone number (562) 980-4045 or e-mail: anthony.spina@noaa.gov.

SUPPLEMENTARY INFORMATION: On June 14, 2004, notice was published in the Federal Register (69 FR 32992) that Michael Clarke had submitted to NOAA Fisheries an application for a permit to conduct research for scientific purposes on the aforementioned ESU of steelhead trout. The requested permit has been issued under the authority of the Endangered Species Act of 1973 (16 U.S.C. 1531-1543) and NOAA Fisheries' regulations governing listed fish and wildlife permits (50 CFR parts 222-226). The permit authorizes Michael Clarke to take the South Central California Coast ESU of steelhead trout and tissue collection from this species during a 2-year study (2004 and 2005) of the abundance and distribution of juvenile steelhead in the San Luis Obispo Creek watershed. The permit authorizes an annual non-lethal take of 1620 juvenile steelhead, and annual collection and possession of up to 100 juvenile steelhead tissue samples, with the total possession for both years not exceeding 200 tissue samples. The permit will expire on November 1, 2005.

Dated: August 31, 2004.
Phil Williams,
Chief, Endangered Species Division, Office of Protected Resources, National Marine Fisheries Service.

[FR Doc. 04-20236 Filed 9-3-04; 8:45 am]

BILLING CODE 3510-22-S